CONSUMER PRODUCT SAFETY COMMISSION

Submission for OMB Review; Comment Request—Safety Standard for Walk-Behind Power Lawn Mowers

AGENCY: Consumer Product Safety Commission.

ACTION: Notice.

SUMMARY: Pursuant to the Paperwork Reduction Act of 1995 (44 U.S.C. Chapter 35), the Consumer Product Safety Commission (Commission) announces that it has submitted to the Office of Management and Budget (OMB) a request for extension of approval of a collection of information associated with the Commission's safety standard for walk-behind power lawn mowers.

DATES: Written comments on this request for extension of approval of information collection requirements should be submitted by October 21, 2009.

ADDRESSES: Written comments on this request for extension of approval of information collection requirements should be captioned “Walk-Behind Power Lawn Mowers” and submitted by October 21, 2009 to (1) The Office of Information and Regulatory Affairs, Attn: OMB Desk Officer for CPSC, Office of Management and Budget, Washington DC 20503; telephone: (202) 395-7340, and (2) the Office of the Secretary, Consumer Product Safety Commission, 4330 East West Highway, Bethesda, MD 20814, by e-mail at cpsc-os@cpsc.gov, or by mail or by facsimile at (301) 504-0127.

FOR FURTHER INFORMATION CONTACT: Copies of this request for extension of the information collection requirements and supporting documentation are available from Linda Glatz, Division of Policy and Planning, Office of Information Technology and Technology Services, Consumer Product Safety Commission, 4330 East West Highway, Bethesda, MD 20814; telephone: (301) 504-7671 or by e-mail to lglatz@cpsc.gov.

SUPPLEMENTARY INFORMATION: In the Federal Register of July 13, 2009 (74 FR 33417), the Consumer Product Safety Commission published a notice in accordance with provisions of the Paperwork Reduction Act of 1995 (44 U.S.C. Chapter 35) to announce the agency's intention to seek extension of approval of the collection of information required in the Safety Standard for Walk-Behind Power Lawn Mowers (16 CFR part 1205). One comment was received in support of the proposed collection of information in response to that notice.

The Safety Standard for Walk-Behind Power Lawn Mowers establishes performance and labeling requirements for mowers to reduce unreasonable risks of injury resulting from accidental contact with the moving blades of mowers. Certification regulations implementing the standard require manufacturers, importers and private labelers of mowers subject to the standard to test mowers for compliance with the standard, and to maintain records of that testing. The records of testing and other information required by the certification regulations allow the Commission to determine that walk-behind power mowers subject to the standard comply with its requirements. This information also enables the Commission to obtain corrective actions if mowers fail to comply with the standard in a manner that creates a substantial risk of injury to the public.

Additional Information About the Request for Extension of Approval of a Collection of Information

Agency address: Consumer Product Safety Commission, 4330 East West Highway, Bethesda, MD 20814.

Title of information collection: Safety Standard for Walk-Behind Power Lawn Mowers, 16 CFR part 1205.

Type of request: Extension of approval without change.

General description of respondents: Manufacturers, importers, and private labelers of walk-behind power lawn mowers.

Estimated number of respondents: 20 per year.

Estimated average number of hours per respondent: 390 per year.

Estimated number of hours for all respondents (testing and recordkeeping): 7,800 per year.

Estimated number of hours for all respondents (labeling): 2,600 per year.

Estimated cost of collection for all respondents (testing, recordkeeping, and labeling): $498,626 per year.

Dated: September 16, 2009.
Todd A. Stevenson,
Secretary, Consumer Product Safety Commission.

[FR Doc. E9-22663 Filed 9-18-09; 8:45 am]

BILLING CODE 6355-01-P